DEPARTMENT OF LABOR

Employment and Training Administration

[TA-W-53,009]

W.B. Place, Hartford, WI; Notice of Termination of Investigation

Pursuant to section 221 of the Trade Act of 1974, as amended, an investigation was initiated on September 26, 2003, in response to a petition filed on behalf of workers at W.B. Place, Hartford, Wisconsin.

The petition regarding the investigation has been deemed invalid. In order for employees to establish a valid petition, there must be at least three valid petitioners. The petition in this case did not meet this threshold number. Consequently, the investigation has been terminated.

Signed at Washington, DC this 1st day of October 2003.
Elliott S. Kushner,
Certifying Officer, Division of Trade Adjustment Assistance.

[FR Doc. 03-27926 Filed 11-5-03; 8:45 am]

BILLING CODE 4510-30-P